ENVIRONMENTAL PROTECTION AGENCY

40 CFR Part 142

[FRL-9996-39-Region 3]

Public Water System Supervision Program Revisions for the State of Delaware

AGENCY: Environmental Protection Agency (EPA).

ACTION: Notification of tentative approval and solicitation of requests for a public hearing.

SUMMARY: Notification is hereby given in accordance with the provision of section 1413 of the Safe Drinking Water Act, as amended, and the requirements governing the National Primary Drinking Water Regulations Implementation that the State of Delaware is revising its approved Public Water System Supervision Program. The State has adopted several regulations which will provide for better public health protection by reducing exposure to potential contaminants in drinking water. EPA has determined that these revisions are no less stringent than the corresponding Federal regulations. EPA is taking action to tentatively approve these program revisions.

DATES: Comments or a request for a public hearing must be submitted by August 12, 2019.

ADDRESSES: Comments or a request for a public hearing must be submitted to the U.S. Environmental Protection Agency Region III, 1650 Arch Street, Philadelphia, PA 19103-2029. Comments may also be submitted electronically to Rizzo.George@epa.gov. All documents relating to this determination are available for inspection between the hours of 8:00 a.m. and 4:30 p.m., Monday through Friday, at the following offices:

• Drinking Water Section (3WD21), Water Division, U.S. Environmental Protection Agency Region III, 1650 Arch Street, Philadelphia, PA 19103-2029.

• Office of Drinking Water, Delaware Division of Public Health, 43 South DuPont Highway, Dover, DE 19901-7430.

FOR FURTHER INFORMATION CONTACT: George Rizzo at the Philadelphia address given above, telephone (215) 814-5781, fax (215) 814-2302, or email Rizzo.George@epa.gov.

SUPPLEMENTARY INFORMATION: The State regulations which EPA has determined are no less stringent than the corresponding Federal regulations are:

Lead and Copper Rule Minor Revisions;

Lead and Copper Rule Short Term Revisions;

Interim Enhanced Surface Water Treatment Rule;

Long Term 1 Enhanced Surface Water Treatment Rule;

Long Term 2 Enhanced Surface Water Treatment Rule;

Stage 2 Disinfectant/Disinfection By-Products Rule;

Ground Water Rule; and

Revised Total Coliform Rule.

All interested parties are invited to submit written comments on this determination and may request a public hearing. All comments will be considered; if necessary, EPA will issue a response. Frivolous or insubstantial requests for a hearing may be denied by the Regional Administrator. However, if a substantial request for a public hearing is made by August 12, 2019, a public hearing will be held. A request for public hearing shall include the following: (1) The name, address, and telephone number of the individual, organization, or other entity requesting a hearing; (2) a brief statement of the requesting person's interest in the Regional Administrator's determination and of information that the requesting person intends to submit at such a hearing; and (3) the signature of the individual making the request; or, if the request is made on behalf of an organization or other entity, the signature of a responsible official of the organization or other entity.

Dated: June 20, 2019.
Cosmo Servidio,
Regional Administrator, EPA Region III.

[FR Doc. 2019-14632 Filed 7-10-19; 8:45 am]

BILLING CODE 6560-50-P